DEPARTMENT OF THE INTERIOR

National Park Service

[NPS-WASO-NAGPRA-17155; PPWOCRADN0-PCU00RP14.R50000]

Notice of Intent To Repatriate Cultural Items: University of Colorado Museum of Natural History, Boulder, CO

AGENCY: National Park Service, Interior.

ACTION: Notice.

SUMMARY: The University of Colorado Museum of Natural History, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the University of Colorado Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Colorado Museum of Natural History at the address in this notice by January 21, 2015.

ADDRESSES: Jen Shannon, Curator of Cultural Anthropology, University of Colorado Museum of Natural History, 218 UCB, Boulder, CO 80309-0218, telephone (303) 492-6276, email jshannon@colorado.edu.

SUPPLEMENTARY INFORMATION: Notice is here given in accordance with the Native American Graves Protection and Repatriation Act (NAGPRA), 25 U.S.C. 3005, of the intent to repatriate cultural items under the control of the University of Colorado Museum of Natural History, Boulder, CO that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

In 1959, the University of Colorado Museum of Natural History acquired two Jemez Kachina masks through an exchange from the Denver Art Museum, which purchased the masks in 1948, from Nat Stern via Henriette Harris of Santa Fe, NM. The female mask, represented by catalog number 10353, is comprised of rawhide, paint, turkey feathers, cotton cord, and cotton cloth. The male mask, represented by catalog number 10354 is comprised of wood, leather, and paint.

During consultation, the Pueblo of Jemez provided evidence in support of cultural affiliation.

Determinations Made by the University of Colorado Museum of Natural History

Officials of the University of Colorado Museum of Natural History have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and the Pueblo of Jemez, New Mexico.

Additional Requestors and Disposition

Lineal descendants or representatives of any Indian tribe or Native Hawaiian organization not identified in this notice that wish to claim these cultural items should submit a written request with information in support of the claim to Jen Shannon, Curator of Cultural Anthropology, University of Colorado Museum of Natural History, 218 UCB, Boulder, CO 80309-0218, telephone (303) 492-6276, email jshannon@colorado.edu, by January 21, 2015. After that date, if no additional claimants have come forward, transfer of control of the sacred objects and objects of cultural patrimony to the Pueblo of Jemez, New Mexico, may proceed.

The University of Colorado Museum of Natural History is responsible for notifying the Pueblo of Jemez, New Mexico, that this notice has been published.

Dated: November 10, 2014.
Melanie O'Brien,
Acting Manager, National NAGPRA Program.

[FR Doc. 2014-29908 Filed 12-19-14; 8:45 am]

BILLING CODE 4312-50-P